DEPARTMENT OF ENERGY

Notice of Request for Information (RFI) on Lighting R&D Opportunities

AGENCY: Office of Energy Efficiency and Renewable Energy, Department of Energy (DOE).

ACTION: Request for information (RFI).

SUMMARY: The U.S. Department of Energy (DOE) invites public comment on its Request for Information (RFI) number DE-FOA-0002160 regarding the DOE Building Technologies Office (BTO) Lighting Research and Development (R&D) Program. The purpose of this RFI is to seek broad stakeholder input to inform the strategic direction of the DOE Lighting Research & Development (R&D) Program and resulting portfolio. The purpose of issuing this RFI is to better understand how lighting research priorities and goals can be refined to reflect evolving technology needs and to inform related R&D technologies.

DATES: Responses to the RFI must be received by December 19, 2019.

ADDRESSES: Interested parties are to submit comments electronically to LightingRFI@netl.doe.gov. Include “Lighting RFI” in the subject of the title. Responses must be provided as attachments to an email. It is recommended that attachments with file sizes exceeding 25MB be compressed (i.e., zipped) to ensure message delivery. Responses must be provided as a Microsoft Word (.docx) attachment to the email, and no more than 10 pages in length, 12-point font, 1-inch margins. Only electronic responses will be accepted. The complete RFI document is located at https://eere-exchange.energy.gov/.

FOR FURTHER INFORMATION CONTACT: Questions may be addressed to LightingRFI@netl.doe.gov, or Brian Walker, 202-586-0650, brian.walker@ee.doe.gov. Further instruction can be found in the RFI document posted on EERE Exchange.

SUPPLEMENTARY INFORMATION: EERE is specifically interested in information on three different topic areas: (1) Provide critical input on current Lighting Program direction, activities, and opportunities; (2) Identify impactful lighting R&D opportunities within general illumination that are absent (or under-represented) in the 2018 DOE Solid-State Lighting (SSL) R&D Opportunities (RDO) document; and (3) Identify impactful lighting R&D opportunities whose immediate applications are beyond general illumination but have the potential to help save energy in the built environment. The RFI is available at: https://eere-exchange.energy.gov/.

Confidential Business Information

Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signed in Washington, DC, on November 1, 2019.
David Nemtzow,
Director, Building Technologies Office.

[FR Doc. 2019-24430 Filed 11-7-19; 8:45 am]

BILLING CODE 6450-01-P